OFFICE OF PERSONNEL MANAGEMENT

5 CFR Part 532

RIN 3206-AM83

Prevailing Rate Systems; Definition of Broward County, Florida, to a Nonappropriated Fund Federal Wage System Wage Area

AGENCY: U.S. Office of Personnel Management.

ACTION: Proposed rule with request for comments.

SUMMARY: The U.S. Office of Personnel Management is issuing a proposed rule that would define Broward County, Florida, as an area of application county to the Miami-Dade, FL, nonappropriated fund (NAF) Federal Wage System (FWS) wage area. This change is necessary because there are three NAF FWS employees working in Broward County and the county is not currently defined to a NAF wage area.

DATES: We must receive comments on or before June 20, 2013.

ADDRESSES: You may submit comments, identified by “RIN 3206-AM83,” using either of the following methods:

Federal eRulemaking Portal: http://www.regulations.gov. Follow the instructions for submitting comments.

Mail: Jeanne Jacobson, Acting Deputy Associate Director for Pay and Leave, Employee Services, U.S. Office of Personnel Management, Room 7H31, 1900 E Street NW., Washington, DC 20415-8200, or email pay-leave-policy@opm.gov.

FOR FURTHER INFORMATION CONTACT: Madeline Gonzalez, by telephone at (202) 606-2838, or by email at pay-leave-policy@opm.gov.

SUPPLEMENTARY INFORMATION: The U.S. Office of Personnel Management (OPM) is issuing a proposed rule that would define Broward County, Florida, as an area of application to the Miami-Dade, FL, nonappropriated fund (NAF) Federal Wage System (FWS) wage area. The Broward County VA Outpatient Clinic in Sunrise, FL, has a new Veterans Canteen Service staffed with three NAF FWS employees.

Under section 532.219 of title 5, Code of Federal Regulations, each NAF wage area “shall consist of one or more survey areas, along with nonsurvey areas, if any, having nonappropriated fund employees.” Broward County does not meet the regulatory criteria under 5 CFR 532.219 to be established as a separate NAF wage area; however, nonsurvey counties may be combined with a survey area to form a wage area. Section 532.219 lists the regulatory criteria that OPM considers when defining FWS wage area boundaries:

• Proximity of largest facilities activity in each county;

• Transportation facilities and commuting patterns; and

• Similarities of the counties in:

○ Overall population;

○ Private employment in major industry categories; and

○ Kinds and sizes of private industrial establishments.

Based on an analysis of the regulatory criteria for defining NAF wage areas, we recommend that Broward County, FL, be defined as an area of application to the Miami-Dade, FL, NAF FWS wage area. The proximity criterion, transportation facilities and commuting patterns criterion, and the overall population, employment sizes, and kinds and sizes of private industrial establishments criterion all favor the Miami-Dade wage area. In addition, the NAF FWS employees in Broward County work at the Broward County VA Outpatient Clinic, which is a satellite activity attached to the Bruce W. Carter VA Medical Center in Miami-Dade County. Miami-Dade County is the survey county in the Miami-Dade NAF wage area. Based on this analysis, we recommend that Broward County be defined to the Miami-Dade NAF wage area.

The proposed Miami-Dade NAF wage area would consist of one survey county, Miami-Dade County, FL, and two area of application counties, Broward and Palm Beach Counties, FL. The Federal Prevailing Rate Advisory Committee, the national labor-management committee responsible for advising OPM on matters concerning the pay of FWS employees, recommended this change by consensus. This change would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Elaine Kaplan,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix D to Subpart B of Part 532—Nonappropriated Fund Wage and Survey Areas

2. Appendix D to subpart B is amended by revising the wage area listing for the Miami-Dade, FL, NAF wage areas to read as follows:

* * * * *

* * * * *
Florida
* * * * *
Miami-Dade
Survey Area
Florida:
Miami-Dade
Area of Application. Survey area plus:
Florida:
Broward
Palm Beach
* * * * *

[FR Doc. 2013-12066 Filed 5-20-13; 8:45 am]

BILLING CODE 6325-39-P